FEDERAL ELECTION COMMISSION

[Notice 2003-4]

Filing Dates for the Texas Special Election in the 19th Congressional District

AGENCY: Federal Election Commission.

ACTION: Notice of filing dates for special election.

SUMMARY: Texas has scheduled a special election on May 3, 2003, to fill the U.S. House of Representatives seat in the Nineteenth Congressional District vacated by Representative Larry Combest. There are two possible elections, but only one may be necessary. If no candidate wins a majority of votes in the Special General Election, the two top vote-getters, regardless of party affiliation, will participate in a Special Runoff Election on a date to be set by the Governor after May 3, 2003.

Committees participating in the Texas special election are required to file pre- and post-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates participating in the Texas Special General Election shall file a 12-day Pre-General Report on April 21, 2003. If there is a majority winner, committees must also file a 30-day Post-General Report on June 2, 2003. (See chart below for the closing date for each report).

Unauthorized Committees (PACs and Party Committees)

Political committees that file on a semiannual basis in 2003 are subject to special election reporting if they make previously undisclosed contributions or expenditures in connection with the Texas Special General Election by the close of books for the applicable report(s). (See chart below for the closing date for each report).

Committees filing monthly that support candidates in the Texas Special General Election should continue to file according to the monthly reporting schedule.

Possible Special Runoff Election

In the event that no candidate receives a majority of the votes in the Special General Election, a Special Runoff Election will be held. The Commission will publish a future notice giving the filing dates for that election if it becomes necessary.

Calendar of Reporting Dates for Texas Special Election
Report | Close of books¹ | Reg./cert. mailing date² | Filing date
If only the Special General is Held (05/03/03), Committees Must File:
April Quarterly | ———Waived———
Pre-General | 04/13/03 | 04/18/03 | 04/21/03
Post-General | 05/23/03 | 06/02/03 | 06/02/03
If Two Elections are Held, Committees Involved in Only the Special General (05/03/03) Must File
April Quarterly | ———Waived———
Pre-General | 04/13/03 | 04/18/03 | 04/21/03
¹ The period begins with the close of books of the last report filed by the committee. If the committee has filed no previous reports, the period begins with the date of the committee's first activity.
² Pre- and Post-General Reports sent registered or certified mail must be postmarked by the mailing date; otherwise, they must be received by the filing date. Committees should keep the mailing receipt with its postmark as proof of filing.

Dated: January 23, 2003.
Bradley A. Smith,
Vice Chairman, Federal Election Commission.

[FR Doc. 03-2298 Filed 1-23-03; 8:45 am]

BILLING CODE 6715-01-P